DEPARTMENT OF AGRICULTURE

Forest Service

Yakutat Resource Advisory Committee

AGENCY: Forest Service, USDA.

ACTION: Notice of meeting.

SUMMARY: The Yakutat Resource Advisory Committee will meet in Yakutat, Alaska. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 7, 2012, 6 p.m.

ADDRESSES: The meeting will be held at Kwaan Conference Room, 712 Ocean Cape Drive, Yakutat, Alaska. A conference line is available for those wishing to attend via telephone. Please contact Lee A. Benson, Yakutat District Ranger at 907-784-3359 for the number and passcode.

Written comments may be submitted as described under Supplementary Information. All comments, including names and addresses when provided, are placed in the record and are available for public inspection and copying. The public may inspect comments received at the Yakutat Ranger District Office, 712 Ocean Cape Drive, Yakutat, Alaska. Please call ahead to 907-784-3359 to facilitate entry into the building to view comments.

FOR FURTHER INFORMATION CONTACT: Send written comments to Lee A. Benson, c/o Forest Service, USDA, P.O. Box 327, Yakutat, AK 99689, electronically to labenson@fs.fed.us, or via facsimile to 907-784-3457.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: The purpose of the meeting is to review and recommend projects authorized under title II of the Act. Anyone who would like to bring related matters to the attention of the committee may file written statements with the committee staff before or after the meeting. The agenda will include time for people to make oral statements of three minutes or less. Individuals wishing to make an oral statement should request in writing by Sep 1, 2012 to be scheduled on the agenda. Written comments and requests for time for oral comments must be sent to Lee A. Benson, c/o Forest Service, USDA, P.O. Box 327, Yakutat, AK 99689, by email to labenson@fs.fed.us, or via facsimile to 907-784-3457. A summary of the meeting will be posted at https://fsplaces.fs.fed.us/fsfiles/unit/wo/secure_rural_schools.nsf/Web_Agendas?OpenView&Count=1000&RestrictToCategory=Yakutat within 21 days of the meeting.

Meeting Accommodations: If you are a person requiring reasonable accommodation, please make requests in advance for sign language interpreting, assistive listening devices or other reasonable accommodation for access to the facility or proceedings by contacting the person listed under FOR FURTHER INFORMATION CONTACT. All reasonable accommodation requests are managed on a case by case basis.

Dated: August 3, 2012.
Lee A. Benson,
Yakutat District Ranger.

[FR Doc. 2012-19558 Filed 8-9-12; 8:45 am]

BILLING CODE 3410-11-M